DEPARTMENT OF LABOR

Employment and Training Administration

[TA-W-56,343]

Dorby Group aka Dorby Frocks Ltd. New York, NY; Notice of Termination of Investigation

Pursuant to section 221 of the Trade Act of 1974, as amended, an investigation was initiated on January 14, 2004, in response to a petition filed on behalf of workers at Dorby Group, AKA Dorby Frocks LTD., New York, New York.

The Department of Labor issued a negative determination applicable to the petitioning group of workers on January 21, 2005 (TA-W-56,240). No new information or change in circumstances is evident which would result in a reversal of the Department's previous determination. Consequently, further investigation would serve no purpose, and the investigation has been terminated.

Signed in Washington, DC, this 1st day of February, 2005.
Richard Church,
Certifying Officer, Division of Trade Adjustment Assistance.

[FR Doc. E5-711 Filed 2-22-05; 8:45 am]

BILLING CODE 4510-30-P